DEPARTMENT OF COMMERCE

National Oceanic and Atmospheric Administration

RIN 0648-XC078

Endangered Species; File No. 17183

AGENCY: National Marine Fisheries Service (NMFS), National Oceanic and Atmospheric Administration (NOAA), Commerce.

ACTION: Notice; issuance of permit modification.

SUMMARY: Notice is hereby given that Raymond Carthy, Ph.D., University of Florida, Florida Cooperative Fish and Wildlife Research Unit, 117 Newins-Ziegler Hall, P.O. Box 110450, Gainesville, FL 32611 has been issued a modification to scientific research Permit No. 17183-01.

ADDRESSES: The modification and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Hapeman, (301) 427-8401.

SUPPLEMENTARY INFORMATION: On July 29, 2015, notice was published in the Federal Register (80 FR 45204) that a modification of Permit No. 17183, issued April 24, 2013 (78 FR 26323), had been requested by the above-named individual. The requested modification has been granted under the authority of the Endangered Species Act of 1973, as amended (ESA; 16 U.S.C. 1531 et seq.) and the regulations governing the taking, importing, and exporting of endangered and threatened species (50 CFR 222-226).

Permit No. 17183-01 authorizes Dr. Carthy to continue long-term research on the demographics and movements of green (Chelonia mydas), loggerhead (Caretta caretta), hawksbill (Eretmochelys imbricata), and Kemp's ridley (Lepidochelys kempii) sea turtles off the northwest coast of Florida. Researchers are authorized to capture sea turtles annually by hand or strike, tangle or dip net and have the following procedures performed before release: Measure; weigh; epibiota sample; biological sampling, marking; photograph. A subset of sea turtles also may be fitted with telemetry tags—either a satellite tag or an acoustic tag with an accelerometer. This modification (No. 2): (1) Increases the number of Kemp's ridley sea turtles captured annually; and (2) allows a larger subset of green and Kemp's ridley sea turtles to be tagged. The permit is valid through April 17, 2018.

Issuance of this modification, as required by the ESA was based on a finding that such permit (1) was applied for in good faith, (2) will not operate to the disadvantage of such endangered or threatened species, and (3) is consistent with the purposes and policies set forth in section 2 of the ESA.

Dated: April 20, 2016.
Julia Harrison,
Chief, Permits and Conservation Division, Office of Protected Resources, National Marine Fisheries Service.

[FR Doc. 2016-09532 Filed 4-22-16; 8:45 am]

BILLING CODE 3510-22-P